DEPARTMENT OF COMMERCE

International Trade Administration

[A-791-827]

Certain Lemon Juice From the Republic of South Africa: Postponement of Final Determination and Extension of Provisional Measures

AGENCY: Enforcement and Compliance, International Trade Administration, Department of Commerce.

SUMMARY: The U.S. Department of Commerce (Commerce) is postponing the deadline for issuing the final determination in the less-than-fair-value (LTFV) investigation of certain lemon juice (lemon juice) from the Republic of South Africa (South Africa) until December 19, 2022, and is extending the provisional measures from a four-month period to a period of not more than six months.

DATES: Applicable September 15, 2022.

FOR FURTHER INFORMATION CONTACT: Elizabeth Bremer or Zachary Shaykin, AD/CVD Operations, Office IV, Enforcement and Compliance, International Trade Administration, U.S. Department of Commerce, 1401 Constitution Avenue NW, Washington, DC 20230; telephone: (202) 482-4987 or (202) 482-2638, respectively.

SUPPLEMENTARY INFORMATION:

Background

Commerce initiated this investigation on January 19, 2022.¹ The period of investigation is October 1, 2020, through September 30, 2021. On August 4, 2022, Commerce published its Preliminary Determination.²

¹ See Lemon Juice from Brazil and South Africa: Initiation of Less-Than-Fair-Value Investigations, 87 FR 3768 (January 25, 2022).

² See Certain Lemon Juice From the Republic of South Africa: Preliminary Affirmative Determination of Sales at Less Than Fair Value, 87 FR 47707 (August 4, 2022).

Postponement of Final Determination and Extension of Provisional Measures

Section 735(a)(2) of the Tariff Act of 1930, as amended (the Act) and 19 CFR 351.210(b)(2) provide that a final determination may be postponed until not later than 135 days after the date of the publication of the preliminary determination if, in the event of an affirmative preliminary determination, a request for such postponement is made by exporters or producers who account for a significant proportion of exports of the subject merchandise, or in the event of a negative preliminary determination, a request for such postponement is made by the petitioner. Further, 19 CFR 351.210(e)(2) requires that a request by exporters for postponement of the final determination be accompanied by a request for extension of provisional measures from a four-month period to a period not more than six months, in accordance with section 733(d) of the Act.

On September 1, 2022, pursuant to 19 CFR 351.210(e), mandatory respondents Cape Fruit Processors (Pty) Ltd. (Cape Fruit) and Granor Passi (Pty). Ltd. (Granor Passi) requested that Commerce postpone the deadline for the final determination until no later than 135 days from the publication of the Preliminary Determination, and that provisional measures be extended to a period not to exceed six months.³ In accordance with section 735(a)(2)(A) of the Act and 19 CFR 351.210(b)(2)(ii), because: (1) the Preliminary Determination is affirmative; (2) the requesting exporters account for a significant proportion of exports of the subject merchandise; and (3) no compelling reasons for denial exist, Commerce is postponing the final determination until no later than 135 days after the date of the publication of the Preliminary Determination, and extending the provisional measures from a four-month period to a period not greater than six months. Accordingly, Commerce will issue its final determination no later than December 19, 2022.⁴

³ See Cape Fruit and Granor Passi's Letter, “Request for Postponement of the Final Antidumping Determination—Case Ref A-791-827,” dated September 1, 2022.

⁴ The actual deadline falls on December 17, 2022, which is a Saturday. Commerce's practice dictates that where a deadline falls on a weekend or Federal holiday, the appropriate deadline is the next business day. See Notice of Clarification: Application of “Next Business Day” Rule for Administrative Determination Deadlines Pursuant to Tariff Act of 1930, as Amended, 70 FR 24533 (May 10, 2005).

Notification to Interested Parties

This notice is issued and published in accordance with section 735(a)(2) of the Act and 19 CFR 351.210(g).

Dated: September 9, 2022.
Lisa W. Wang,
Assistant Secretary for Enforcement and Compliance.

[FR Doc. 2022-19967 Filed 9-14-22; 8:45 am]

BILLING CODE 3510-DS-P